DEPARTMENT OF ENERGY

Federal Energy Regulatory Commission

[Docket No. RP00-565-000]

ANR Storage Company; Notice of Tariff Filing

September 28, 2000.

Take notice that on September 25, 2000, ANR Storage Company (ANRS) tendered for filing as part of its FERC Gas Tariff, Original Volume No. 1, the tariff sheets listed on Appendix A to the filing, to be effective March 27, 2000.

ANRS states that the purpose of the filing is to incorporate changes to conform to the new regulations under Section 284.8(i), governing standards for Ceiling Rates for Short Term Capacity Releases.

ANRS states that copies of the filing were served upon the company's Jurisdictional customers.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25415 Filed 10-3-00; 8:45 am]

BILLING CODE 6717-01-M